DEPARTMENT OF HEALTH AND HUMAN SERVICES

National Committee on Vital and Health Statistics

AGENCY: Centers for Disease Control and Prevention, Department of Health and Human Services.

ACTION: Notice of meeting.

SUMMARY: Pursuant to the Federal Advisory Committee Act, the Department of Health and Human Services (HHS) announces the following advisory committee meeting. This meeting is open to the public.

Name: National Committee on Vital and Health Statistics (NCVHS) Meeting.

DATES: Tuesday, December 3, 2024: 10 a.m.-5 p.m. EST, and Wednesday, December 4, 2024: 10 a.m.-3 p.m. EST.

ADDRESSES: Virtual open meeting. The public is welcome to obtain a link to attend this meeting by following the instructions posted on the Committee website: https://ncvhs.hhs.gov/meetings/full-committee-meeting-22/.

FOR FURTHER INFORMATION CONTACT: Substantive program information may be obtained from Naomi Michaelis, MPA, Executive Secretary, NCVHS, National Center for Health Statistics, Centers for Disease Control and Prevention, 3311 Toledo Road, Hyattsville, Maryland 20782, or via electronic mail to nmichaelis@cdc.gov; or by telephone (301) 458-4202. Summaries of meetings and a roster of Committee members are available on the NCVHS website https://ncvhs.hhs.gov/, where further information including an agenda and instructions to access the broadcast of the meeting will be posted.

Should you require reasonable accommodation, please telephone the CDC Office of Equal Employment Opportunity at (770) 488-3210 as soon as possible.

SUPPLEMENTARY INFORMATION: As outlined in its Charter, the National Committee on Vital and Health Statistics assists and advises the Secretary of HHS on health data, data standards, statistics, privacy, national health information policy, and the Department's strategy to best address those issues. The original authorities of NCVHS are described at 42 U.S.C. 242k. Additional authorities were added by the Health Insurance Portability and Accountability Act of 1996 (HIPAA, Pub. L. 104-191, 110 Stat. 1936, Aug. 21, 1996), under which NCVHS advises the Secretary on administrative simplification standards, including those for privacy, security, adoption and implementation of transaction standards, unique identifiers, code sets, and operating rules adopted under the Patient Protection and Affordable Care Act (ACA, Pub. L. 111-148, 124 Stat. 119, Mar. 23, 2010). Included in HIPAA is the statutory reporting requirement that the Committee submit to Congress and make public, a report regarding the implementation of part C of title XI of the Social Security Act.

Purpose: Topics on the meeting agenda will include updates from the Department and the ICD-11 Workgroup. The Subcommittee on Privacy, Confidentiality, and Security will continue its inquiry into and discussion of Privacy and Security in Health Data Access. The Subcommittee on Standards will report on its current and future activities. The Committee will reserve time on the agenda for public comment. Meeting times and topics are subject to change. Please refer to the tentative agenda that will be posted on the NCVHS website at this link https://ncvhs.hhs.gov/meetings/full-committee-meeting-22/ for updates.

Laina Bush,
Deputy Assistant Secretary, Office of Science and Data Policy, Office of the Assistant Secretary for Planning and Evaluation.

[FR Doc. 2024-27049 Filed 11-19-24; 8:45 am]

BILLING CODE 4150-05-P